OFFICE OF PERSONNEL MANAGEMENT

Privacy Act of 1974: Update and Amend System of Records

AGENCY: U.S. Office of Personnel Management (OPM).

ACTION: Update and amend system of records.

SUMMARY: OPM proposes to update and amend OPM/Central-9, Personnel Investigations Records contained in its inventory of record systems subject to the Privacy Act of 1974 (5 U.S.C. 552a), as amended. This action is necessary to meet the requirements of the Privacy Act to publish in the Federal Register notice of the existence and character of records maintained by the agency (5 U.S.C. 552a(e)(4)).

DATES: These changes will become effective without further notice June 29, 2010, unless we receive comments that result in a contrary determination.

ADDRESSES: Send written comments to the Chief for the Freedom of Information and Privacy Act office, Federal Investigative Services, U.S. Office of Personnel Management, 1137 Branchton Road, PO Box 618, Boyers, Pennsylvania 16018.

FOR FURTHER INFORMATION CONTACT: Chief, Freedom of Information and Privacy Act office, FISSORNComments@opm.gov.

SUPPLEMENTARY INFORMATION: The Office of Personnel Management's (OPM) system of record notices subject to the Privacy Act of 1974 (5 U.S.C. 552a), as amended, have been published in the Federal Register.

The specific changes to the record system being amended are set forth below. The proposed amendment is within the purview of subsection (r) of the Privacy Act of 1974 (5 U.S.C. 552a), as amended, which requires the submission of new or altered systems reports.

SYSTEM NAME:

Personnel Investigations Records.

SYSTEM LOCATION:

Delete current paragraph a and replace with:

“a. Federal Investigative Services (FIS), U.S. Office of Personnel Management, PO Box 618, 1137 Branchton Road, Boyers, PA 16018-0618.”

Add a new paragraph:

“b. Records may be maintained in various FIS field offices, including the Personnel Investigations Center, 601 10th Street, Fort Meade, MD, for limited periods of time. These records would include investigative and administrative records, including files and duplicate records or records which extract information from the main files. This is necessary to assist field offices in their day to day operations. Investigative activities conducted by field offices are reported to FIS headquarters at one or more stages of the background investigation process. Upon completion of activities to include fieldwork, quality review, and/or adjudicative action, documents are returned to FIS headquarters or destroyed in accordance with the published retention schedule.”

Delete the current paragraph b and replace with:

“c. Decentralized segments: Copies of these records may exist temporarily in agencies on current employees, former employees, or on contractor employees. These copies may be located in the personnel security office or other designated offices responsible for making suitability, fitness, security clearance, access, HSPD 12 credentialing decisions, or hiring determinations on an individual. (“Agency” as used throughout this system is deemed to include Legislative and Judicial branch establishments as well as those in the Executive Branch).”

CATEGORIES OF INDIVIDUALS COVERED BY THE SYSTEM:

Current paragraphs a and c have been merged. Replace current paragraph a with:

“a. Civilian and military applicants and employees or government contractors, experts, instructors, and consultants to Federal programs who undergo a personnel background investigation for the purpose of determining suitability for government employment, contractor employee fitness, eligibility for access to classified information, credentialing for HSPD 12, and/or access to a federal facility or information technology system.”

Due to the deletion of the current paragraph c, current paragraphs d, e, and f have been re-lettered respectively to c, d, and e.

Add a new paragraph:

“f. State, Local, Tribal and Private Sector partners identified by Federal sponsors for eligibility to access classified information in support of Homeland Defense initiatives.”

CATEGORIES OF RECORDS IN THE SYSTEM:

Delete entry and replace with

“a. Applicable records containing the following information about the individual investigated may be maintained: Name, former names, and aliases; date and place of birth; social security number; height; weight; hair and eye color; gender; mother's maiden name; current and former home addresses, phone numbers, and e-mail addresses; employment history; military record information; selective service registration record; residential history; education and degrees earned; names of associates and references with their contact information; citizenship; passport information; criminal history; civil court actions; prior security clearance and investigative information; mental health history; records related to drug and/or alcohol use; financial record information; information from the Internal Revenue Service pertaining to income tax returns; credit reports; the name, date and place of birth, social security number, and citizenship information for spouse or cohabitant; the name and marriage information for current and former spouse(s); the citizenship, name, date and place of birth, and address for relatives; information on foreign contacts and activities; association records; information on loyalty to the United States; and other agency reports furnished to OPM in connection with the background investigation process, and other information developed from above.

b. Summaries of personal and third party interviews conducted during the course of the background investigation.

c. Correspondence relating to adjudication matters and results of suitability decisions in cases adjudicated by the OPM, FIS in accordance with 5 CFR 731.

d. Records of personnel background investigations conducted by other Federal agencies.

e. Records of adjudicative and HSPD 12 decisions by other Federal agencies, including clearance determinations and/or polygraph results.

Note: This system does not include agency records of a personnel investigative nature that do not come to OPM.

AUTHORITY FOR MAINTENANCE OF THE SYSTEM:

Delete entry and replace with:

“Depending on the purpose of the investigation, Executive Orders 9397, as amended by 13478, 10450, 10577, 10865, 12968, and 13470; Section 2, Civil Service Act of 1883; Public Laws 82-298 and 92-261; Title 5, U.S.C., sections 1303, 1304, 3301, 7301, and 9101; Title 22, U.S.C., section 2519; Title 42 U.S.C. sections 1874 (b)(3), 2165, 2201, and 2455; Title 50 U.S.C. section 435b(e); Title 5 CFR sections 731, 732 and 736; Homeland Security Presidential Directive 12 (HSPD 12) and OMB Circular No. A-130. In addition to the authorities cited, there are various acts of Congress that contain implied authority for OPM to investigate, such as laws prohibiting the purchase and sale of office, holding of two offices, conspiracy and other prohibited practices.”

PURPOSE(S):

Current paragraphs a and b have been merged. Replace current paragraphs a and b with: “The records in this system may be used to provide investigatory information for determinations concerning whether an individual is suitable or fit for Government employment; eligible for logical and physical access to federally controlled facilities and information systems; eligible to hold sensitive positions (including but not limited to eligibility for access to classified information); fit to perform work for or on behalf of the Government as a contractor employee; qualified for Government service; qualified to perform contractual services for the Government; and loyal to the United States. The system is also used to document such determinations.”

Delete current paragraph c.

Remove paragraph lettering for current paragraphs d and e. All current language remains unchanged.

Add a paragraph: “The records may be used to help streamline and make more efficient the investigations and adjudications processes generally.”

ROUTINE USES OF RECORDS MAINTAINED IN THE SYSTEM, INCLUDING CATEGORIES OF USERS AND THE PURPOSES OF SUCH USES:

Add: “In addition to those disclosures generally permitted under 5 U.S.C. 552a(b) of the Privacy Act, all or a portion of the records of information contained in this system may be disclosed outside OPM as a routine use pursuant to 5 U.S.C. 552a(b)(3).” to the beginning of this section.

Add: “k. For agencies that use adjudicative support services of another agency, at the request of the original agency, the results will be furnished to the agency providing the adjudicative support.

l. To provide criminal history record information to the FBI, to help ensure the accuracy and completeness of FBI and OPM records.” to the end of this section.

POLICIES AND PRACTICE FOR STORING, RETRIEVING, ACCESSING, RETAINING AND DISPOSING OF RECORDS IN THE SYSTEM:

STORAGE:

Delete entry and replace with: “Records are maintained in paper format in file folders, on microfilm, as digital images, on computer tapes, and in electronic databases such as the Personnel Investigations Processing System, the Clearance Verification System, and the e-QIP system.”

RETRIEVABILITY:

Delete entry and replace with: “Records are retrieved by the name, Social Security Number, unique case serial number and/or other unique identifier of the individual on whom they are maintained.”

SAFEGUARDS:

Delete entry and replace with: “Paper files are stored in a locked filing cabinet or a secure facility with an intrusion alarm system. Microfilm is secured in a facility with an intrusion system. Electronic records are maintained in computer databases in a limited access room with a keyless cipher lock. All employees are required to have an appropriate background investigation before they are allowed access to the records. The U.S. Postal Service and other postal providers are used to transmit hard copy records sent to and from field offices. Information that is transmitted electronically from field offices is encrypted.”

RETENTION AND DISPOSAL:

Replace “* * * 15 years, plus the current year from the date of the most recent investigative activity, except for investigations involving potentially actionable issue(s) which will be maintained for 25 years plus the current year from the date of the most recent investigative activity.” with “* * * 16 years from the date of closing or the date of the most recent investigative activity, whichever is later, except for investigations involving potentially actionable issue(s) which will be maintained for 25 years from the date of closing or the date of the most recent investigative activity.”

Add a paragraph: “Digital capture of fingerprint card set is forwarded to the Federal Bureau of Investigation and the card is destroyed when it is verified that the digital copy was accurately captured and transferred.”

Remove paragraph lettering for current paragraphs a and b. All current language remains unchanged.

SYSTEM MANAGER(S) AND ADDRESS:

Delete entry and replace with: “Associate Director, Federal Investigative Services, U.S. Office of Personnel Management, PO Box 618, 1137 Branchton Road, Boyers, PA 16018.”

NOTIFICATION PROCEDURE:

Delete entry and replace with: “Individuals wishing to learn whether this system contains information about them should contact the FOI/PA, Office of Personnel Management, Federal Investigative Services, PO Box 618, 1137 Branchton Road, Boyers, PA 16018-0618, in writing. Written requests must contain the following information:

a. Full name, former name, and any other names used.

b. Date and place of birth.

c. Social Security Number.

d. Any available information regarding the type of record involved.

e. The address to which the record information should be sent.

f. You must sign your request.

Attorneys or other persons acting on behalf of an individual must provide written authorization from that individual for the representative to act on their behalf. The written authorization must also include an original notarized statement or an unsworn declaration in accordance with 28 U.S.C. 1746, in the following format: I declare (or certify, verify, or state) under penalty of perjury that the foregoing is true and correct. Executed on (date). (Signature).

Individuals requesting access must also comply with OPM's Privacy Act regulations regarding verification of identity and access to records (5 CFR part 297).”

RECORD ACCESS PROCEDURE:

Delete entry and replace with: “Specific materials in this system have been exempted from Privacy Act provisions at 5 U.S.C. 552a(c)(3) and (d), regarding accounting of disclosures, and access to and amendment of records. The section of this notice titled Systems Exempted from Certain Provisions of the Act indicates the kinds of material exempted and the reasons for exempting them from access.

Individuals wishing to request access to their records should contact the OPM Federal Investigative Services in writing. Requests should be directed only to the Federal Investigative Services whether the record sought is in the primary system or in an agency's decentralized segment. Individuals must furnish the following information for their records to be located and identified:

a. Full name, former name, and any other names used.

b. Date and place of birth.

c. Social Security Number.

d. Any available information regarding the type of record involved.

e. The address to which the record information should be sent.

f. You must sign your request.

Attorneys or other persons acting on behalf of an individual must provide written authorization from that individual for the representative to act on their behalf. The written authorization must also include an original notarized statement or an unsworn declaration in accordance with 28 U.S.C. 1746, in the following format: I declare (or certify, verify, or state) under penalty of perjury that the foregoing is true and correct. Executed on (date). (Signature).

Individuals requesting access must also comply with OPM's Privacy Act regulations regarding verification of identity and access to records (5 CFR part 297).”

AMENDMENT PROCEDURES:

Delete entry and replace with: “Individuals wishing to request amendment to their non-exempt records should contact the Federal Investigations Processing Center in writing. Requests should be directed only to the OPM Federal Investigative Services, whether the record sought is in the primary system or in agency's decentralized segment. Individuals must furnish the following information for their records to be located and identified:

a. Full name, former name, and any other names used.

b. Date and place of birth.

c. Social Security Number.

d. Any available information regarding the type of record involved.

e. The address to which the record information should be sent.

f. You must sign your request.

Attorneys or other persons acting on behalf of an individual must provide written authorization from that individual for the representative to act on their behalf. The written authorization must also include an original notarized statement or an unsworn declaration in accordance with 28 U.S.C. 1746, in the following format: I declare (or certify, verify, or state) under penalty of perjury that the foregoing is true and correct. Executed on (date). (Signature).

Individuals requesting amendment must also comply with OPM's Privacy Act regulations regarding verification of identity and amendment of records (5 CFR part 297).

Note: Where an agency retains the decentralized copy of the investigative report provided by OPM, requests for access to or amendment of such reports will be forwarded to the OPM Federal Investigative Services for processing.”

RECORD SOURCE CATEGORIES:

Replace paragraph a with:

“a. Electronic and paper applications, personnel and security forms or other information completed or supplied by the individual, and the results of personal contacts with the individual.”

Paragraphs b and c were merged. Replace current paragraphs b and c with:

“b. Investigative and other record material furnished by Federal agencies, including notices of personnel actions.”

Add a paragraph:

“c. By personal investigation, written inquiry, or computer linkage from sources such as employers, educational institutions, references, neighbors, associates, police departments, courts, credit bureaus, medical records, probation officials, prison officials, newspapers, magazines, periodicals, and other publications.”

SYSTEMS EXEMPTED FROM CERTAIN PROVISIONS OF THE ACT:

Delete paragraphs a, b, c, d, e, f, and g and replace with:

“1. Properly classified information subject to the provisions of section 552(b)(1), which states as follows: (A) Specifically authorized under criteria established by an Executive order to be kept secret in the interest of national defense or foreign policy and (B) are in fact properly classified pursuant to such Executive order.

2. Investigatory material compiled for law enforcement purposes, other than material within the scope of subsection (j)(2) of this section: Provided, however, that if any individual is denied any right, privilege, or benefit that he would otherwise be entitled by Federal law, or for which he would otherwise be eligible, as a result of the maintenance of such material, such material shall be provided to such individual, except to the extent that the disclosure of such material would reveal the identity of a source who furnished information to the Government under an express promise that the identity of the source would be held in confidence, or, prior to the effective date of this section, under an implied promise that the identity of the source would be held in confidence.

3. Information maintained in connection with providing protective services to the President of the United States or other individuals pursuant to section 3056 of title 18 of the U.S. Code.

4. Material that is required by statute to be maintained and used solely as a statistical record.

5. Investigatory material compiled solely for the purpose of determining suitability, eligibility or qualifications for Federal civilian employment and Federal contact or access to classified information. Materials may be exempted to the extent that release of the material to the individual whom the information is about would reveal the identity of a source who furnished information to the Government under an express promise that the identity of the source would be held in confidence or, prior to September 27, 1975, furnished information to the Government under an implied promise that the identity of the source would be held in confidence.

6. Testing and examination materials, compiled during the course of a personnel investigation, that are used solely to determine individual qualifications for appointment or promotion in the Federal service, when disclosure of the material would compromise the objectivity or fairness of the testing or examination process.

7. Evaluation materials, compiled during the course of a personnel investigation, that are used solely to determine potential for promotion in the armed services can be exempted to the extent that the disclosure of the data would reveal the identity of a source who furnished information to the Government under an express promise that the identity of the source would be held in confidence or, prior to September 27, 1975, under an implied promise that the identity of the source would be held in confidence.”

Office of Personnel Management.
John Berry,
Director.

[FR Doc. 2010-12132 Filed 5-19-10; 8:45 am]

BILLING CODE 6325-38-P